COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List a commodity and services to be furnished by nonprofit agencies employing persons who are blind or have other severe disabilities, and to delete commodities previously furnished by such agencies.

COMMENTS MUST BE RECEIVED ON OR BEFORE: October 22, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed addition, the entities of the Federal Government identified in this notice for each commodity or service will be required to procure the commodity and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodity and services to the Government.

2. The action will result in authorizing small entities to furnish the commodity and services to the Government.

3. There are no known regulatory alternatives which would accomplish the objectives of the Javits-Wagner-O'Day Act (41 U.S.C. 46-48c) in connection with the commodity and services proposed for addition to the Procurement List. Comments on this certification are invited. Commenters should identify the statement(s) underlying the certification on which they are providing additional information. The following commodity and services are proposed for addition to Procurement List for production by the nonprofit agencies listed:

Commodity

Cabinet, Fitting Kit

4730-01-112-3240

NPA: Opportunity Center Easter Seal Rehabilitation Facility, Anniston, Alabama

Government Agency: Defense Supply Center Columbus

Services

Administrative Services

U.S. Customs Service Academy, Glynco, Georgia

NPA: CCAR Services, Inc., Green Cove Springs, Florida

Government Agency: U.S. Customs Service

Grounds Maintenance

U.S. Coast Guard, Training Center—Two Rocks, Petaluma, California

NPA: North Bay Rehabilitation Services, Inc., Rohnert Park, California

Government Agency: U.S. Coast Guard

Janitorial/Custodial

Willow Grove Air Reserve Station, Willow Grove, Pennsylvania

NPA: The Chimes, Inc., Baltimore, Maryland

Government Agency: Willow Grove Air Reserve Station

Janitorial/Custodial

Whidbey Island Naval Air Station, Buildings 65, 117 and 2679, Oak Harbor, Washington

NPA: New Leaf, Inc., Oak Harbor, Washington

Government Agency: Whidbey Island Naval Air Station

Laundry Service

R.E. Bush Naval Hospital, Twentynine Palms, CA

NPA: Job Options, Inc., San Diego, California

Government Agency: U.S. Naval Hospital

Deletions

I certify that the following action will not have a significant impact on a substantial number of small entities. The major factors considered for this certification were:

1. The action will not result in any additional reporting, recordkeeping or other compliance requirements for small entities.

2. The action will result in authorizing small entities to furnish the commodity and services to the Government.

3. There are no known regulatory alternatives which would accomplish the objectives of the Javits-Wagner-O'Day Act (41 U.S.C. 46-48c) in connection with the commodity and services proposed for deletion from the Procurement List.

The following commodities are proposed for deletion from the Procurement List:

Commodities

Tablecloth, Disposable

7210-01-395-7912A

7210-01-395-7912B

7210-01-395-7914A

7210-01-395-7914B

7210-01-395-7915A

7210-01-395-7915B

7210-01-395-7916A

7210-01-395-7916B

7210-01-395-7917A

7210-01-395-7917B

7210-01-395-9192A

7210-01-395-9192B

Short-Run, Printing

7690-00-NSH-0024

7690-00-NSH-0025

Sheryl D. Kennerly,
Director, Information Management.

[FR Doc. 01-23664 Filed 9-20-01; 8:45 am]

BILLING CODE 6353-01-P